DEPARTMENT OF LABOR

Employment and Training Administration

[TA-W-62,955]

Pitney Bowes Tech Central Infrastructure & Support Services, Danbury, CT; Notice of Negative Determination on Reconsideration

On July 15, 2008, the Department issued an Affirmative Determination Regarding Application for Reconsideration for the workers and former workers of the subject firm. The notice was published in the Federal Register on July 21, 2008 (73 FR 42368).

The initial investigation resulted in a negative determination based on the finding that worker group does not produce an article within the meaning of section 222 for the Trade Act of 1974. The investigation revealed that workers of Pitney Bowes, Tech Central Infrastructure & Support Services, Danbury, Connecticut performed IT technical support for Pitney Bowes, Inc., which included tech support for the mainframe, network, and supporting software, including upgrades, installs, patches, maintenance, help desk support and repair.

In the request for reconsideration the petitioner stated that workers of Tech Central Infrastructure & Support Services are Computer Operations Management and Staff, Server Engineering and Support, Network Engineering and Support, Telecommunications Engineering and Support and various Application Support group (HR, SAP, Lotus Notes, etc.) The petitioner further alleged that the workers of the subject firm supported production of Postage Meters by building custom servers, applications and infrastructure, “built the physical equipment that allows Pitney Bowes to offer additional products and services” and “supported production of custom stamps by designing, implementation, storage and support of this product.”

On reconsideration, the Department contacted a company official and requested additional information regarding the production of various products by Pitney Bowes and whether workers of the subject firm supported production of the above mentioned products.

The company official stated that Pitney Bowes, Inc. bought servers from a third-party vendor and in no sense built these servers or develop applications or code. Furthermore, the company official stated that the workers of the subject firm neither built physical equipment nor designed or created the Stamp products. The company official stated that some of the petitioning workers may have loaded software of the Stamp Expressions product on the servers and/or connected the software to the network.

The petitioner further alleged that production of the above-mentioned articles has been shifted to India and thus workers of the Tech Central Infrastructure & Support Services, Danbury, Connecticut should be eligible for TAA.

The company official denied this allegation and stated that production of postage meters, custom stamps, and similar Pitney Bowes equipment is continuing to be produced in the United States and that there was no shift in production of these articles to India or any other foreign country.

The company official stated that some information support functions have been outsourced to a third party vendor, both in the United States and India. However, this outsourcing does not include any outsourcing in production.

The allegation of a shift to another country might be relevant if it was determined that workers of the subject firm produced an article. Since the investigation determined that workers of Pitney Bowes, Tech Central Infrastructure & Support Services, Danbury, Connecticut do not produce an article, there can not be imports nor a shift in production of an “article” abroad within the meaning of the Trade Act of 1974 in this instance.

Conclusion

After reconsideration, I affirm the original notice of negative determination of eligibility to apply for worker adjustment assistance for workers and former workers of Pitney Bowes, Tech Central Infrastructure & Support Services, Danbury, Connecticut.

Signed at Washington, DC, this 9th day of September, 2008.
Elliott S. Kushner,
Certifying Officer, Division of Trade Adjustment Assistance.

[FR Doc. E8-21841 Filed 9-17-08; 8:45 am]

BILLING CODE 4510-FN-P